DEPARTMENT OF DEFENSE

Department of the Air Force

[Docket ID: USAF-2010-0026]

Privacy Act of 1974; System of Records

AGENCY: Department of the Air Force; DoD.

ACTION: Notice to delete a system of records.

SUMMARY: The Department of the Air Force proposes to delete a system of records notice in its existing inventory of record systems subject to the Privacy Act of 1974, (5 U.S.C. 552a), as amended.

DATES: This proposed action will be effective without further notice on November 17, 2010, unless comments are received which result in a contrary determination.

ADDRESSES: You may submit comments, identified by dock number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information

FOR FURTHER INFORMATION CONTACT: Mr. Charles J. Shedrick, 703-696-6488.

SUPPLEMENTARY INFORMATION: The Department of the Air Force systems of records notices subject to the Privacy Act of 1974, (5 U.S.C. 552a), as amended, have been published in the Federal Register and are available from the Department of the Air Force Privacy Office, Air Force Privacy Act Office, Office of Warfighting Integration and Chief Information officer, ATTN: SAF/XCPPI, 1800 Air Force Pentagon, Washington DC 20330-1800

The Department the Air Force proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: October 13, 2010.
Mitchell S. Bryman,
Alternate OSD Federal Register Liaison Officer, Department of Defense.

Deletion:

F071 AF OSI B

System name:

Security and Related Investigative Records (June 11, 1997; 62 FR 31793).

Reason:

This system is covered by systems of records notices F031 AF SP M, Personnel Security Access Records (October 9, 1997; 62 FR 52695) and V5-05, Joint Personnel Adjudication System (JPAS) (July 1, 2005; 70 FR 38120).

[FR Doc. 2010-26190 Filed 10-15-10; 8:45 am]

BILLING CODE 5001-06-P